DEPARTMENT OF LABOR

Employment and Training Administration

[TA-W-75,216, TA-W-75,216A, TA-W-75,216B, TA-W-75,216C]

Russell Newman, Inc., a Subsdiary of RNA Holdings, LLC, Including On-Site Leased Workers From Hour Personnel Services, Pacesetter Ontract Staffing, and Staff Force, Inc., Denton, TX; RNA Holdings, LLC, New York Division, a Subsidiary of SE-RN Holdings, LLC, New York, NY; Russell Newman, Inc., a Subsidiary of RNA Holdings, LLC, Great Barrington, MA; RNA Holdings, LLC, a Subsidiary of SE-RN Holdings, LLC, San Rafael, CA; Amended Certification Regarding Eligibility To Apply for Worker Adjustment Assistance

In accordance with Section 223 of the Trade Act of 1974, as amended (“Act”), 19 U.S.C. 2273, the Department of Labor issued a Certification of Eligibility to Apply for Worker Adjustment Assistance on March 3, 2011, applicable to workers of Russell Newman, Inc., a subsidiary of RNA Holdings, LLC including on-site leased workers from Hour Personnel Services, Pacesetter, Ontrack Staffing, and Staff Force, Inc., Denton, Texas. The notice was published in the Federal Register on March 17, 2011 (76 FR 14693).

At the request of the State agency, the Department reviewed the certification for workers of the subject firm. The workers are engaged in activities related to design, sourcing quality review and inspection, compliance, packaging, labeling, customer fulfillment, and distribution of women's and children's sleepwear services.

The Great Barrington, Massachusetts and San Rafael, California locations operated in conjunction with the Denton, Texas location, both were part of the overall servicing operation, served the same customer base and were impacted by the acquisition in services to China, Bangladesh, Pakistan and Korea.

Accordingly, the Department is amending this certification to include workers of the Great Barrington, Massachusetts location of Russell Newman, Inc., subsidiary of RNA Holdings and the San Rafael, California location of RNA Holdings, LLC, a subsidiary of SE-RN Holdings, LLC.

The amended notice applicable to TA-W-75,216 is hereby issued as follows:

“All workers of Russell Newman, Inc., a subsidiary of RNA Holdings, LLC, including on-site leased workers from Hour Personnel Services, Pacesetter, Ontrack Staffing, and Staff Force, Inc., Denton, Texas (TA-W-75,216), RNA Holdings, LLC, New York Division, a subsidiary of SE-RN Holdings, LLC, New York, New York (TA-W-75,216A), Russell Newman, Inc., a subsidiary of RNA Holdings, LLC, Great Barrington, Massachusetts (TA-W-75,216B) and RNA Holdings, LLC, a subsidiary of SE-RN Holdings, LLC, San Rafael, California (TA-W-75,216C), who became totally or partially separated from employment on or after February 10, 2010, through March 3, 2013, and all workers in the group threatened with total or partial separation from employment on date of certification through two years from the date of certification, are eligible to apply for adjustment assistance under Chapter 2 of Title II of the Trade Act of 1974, as amended.”

Signed in Washington, DC, this 25th day of May 2011.
Michael W. Jaffe,
Certifying Officer, Office of Trade Adjustment Assistance.

[FR Doc. 2011-13784 Filed 6-2-11; 8:45 am]

BILLING CODE 4510-FN-P